DEPARTMENT OF LABOR

Occupational Safety and Health Administration

Maritime Advisory Committee for Occupational Safety and Health (MACOSH)

AGENCY: Occupational Safety and Health Administration (OSHA), Labor.

ACTION: MACOSH meeting, notice of.

SUMMARY: The Maritime Advisory Committee for Occupational Safety and Health (MACOSH) was established under Section 7 of the Occupational Safety and Health (OSH) Act of 1970 to advise the Assistant Secretary of Labor for Occupational Safety and Health Administration (OSHA) on issues relating to occupational safety and health in the maritime industries. The purpose of this Federal Register notice is to announce the Committee and workgroup meetings scheduled for May 19-20, 2009.

DATES: The workgroups will meet on Tuesday, May 19, 2009, 8:30 a.m. to 5 p.m., and the Committee will meet on Wednesday, May 20, 2009, from 8:30 a.m. to 5 p.m.

ADDRESSES: The Committee and workgroups will meet at the Sheraton Anchorage Hotel, 401 East 6th Avenue, Anchorage, AK 99501 ((907) 276-8700) in the Howard Rock conference room. The room will be divided into two conference areas during the Shipyard and Longshoring workgroup meetings. Mail comments, views, or statements in response to this notice to Danielle Watson, Office of Maritime, OSHA, U.S. Department of Labor, Room N-3609, 200 Constitution Avenue, NW., Washington, DC 20210; phone (202) 693-1870; fax (202) 693-1663.

FOR FURTHER INFORMATION CONTACT: For general information about MACOSH and this meeting, contact: Amy Wangdahl, Acting Director, Office of Maritime, OSHA, U.S. Department of Labor, Room N-3609, 200 Constitution Avenue, NW., Washington, DC 20210; phone: (202) 693-2066. Individuals with disabilities wishing to attend the meeting should contact Danielle Watson at (202) 693-1870 no later than May 5, 2009, to obtain appropriate accommodations.

SUPPLEMENTARY INFORMATION: All MACOSH meetings are open to the public. All interested persons are invited to attend the MACOSH meeting at the time and location listed above. The MACOSH agenda will include: an OSHA activities update; a review of the minutes from the previous meeting; and reports from each workgroup. MACOSH may also discuss the following topics based on the workgroup reports: surface preparation (Subpart C, painting and coatings); Safety and Health Injury Prevention Sheets (SHIPS) rigging guidance document; arc flash guidance; OSHA webpage development; commercial fishing industry guidance; OSHA quick cards; welding guidance; break bulk cargo safety guidance; safety zone guidance; and speed limits in marine terminals.

Public Participation: Written data, views, or comments for consideration by MACOSH on the various agenda items listed above should be submitted to Danielle Watson at the address listed above. Submissions received by May 5, 2009, will be provided to Committee members and will be included in the record of the meeting. Requests to make oral presentations to the Committee may be granted as time permits.

Authority: This notice was prepared under the direction of Jordan Barab, Acting Assistant Secretary of Labor for Occupational Safety and Health, U.S. Department of Labor, 200 Constitution Avenue, NW., Washington, DC 20210, pursuant to Sections 6(b)(1) and 7(b) of the Occupational Safety and Health Act of 1970 (29 U.S.C. 655, 656), the Federal Advisory Committee Act (5 U.S.C. App. 2), Secretary of Labor's Order 5-2007 (72 FR 31160), and 29 CFR part 1912.

Signed at Washington, DC, this 21st day of April, 2009.
Jordan Barab,
Acting Assistant Secretary of Labor for Occupational Safety and Health.

[FR Doc. E9-9518 Filed 4-24-09; 8:45 am]

BILLING CODE 4510-26-P